DEPARTMENT OF ENERGY

[OE Docket No. PP-82-4]

Application To Amend Presidential Permit; Vermont Electric Power Company, Inc., as Agent for the Joint Owners of the Highgate Project

AGENCY: Office of Electricity Delivery and Energy Reliability, DOE.

ACTION: Notice of Application.

SUMMARY: Vermont Electric Power Company, Inc. (“VELCO”), as operating-and-management agent for the Joint Owners of the Highgate Transmission Interconnection (the “Highgate Joint Owners”) filed an application to amend PP-82, issued on May 14, 1985 and amended on March 1, 1994, on September 3, 2003, and again on February 7, 2005. The application requested that DOE remove certain operating conditions in the Permit that are no longer necessary.

DATES: Comments or motions to intervene must be submitted on or before February 16, 2016.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260, or by email to Christopher.Lawrence@hq.doe.gov, or Katherine Konieczny (Program Attorney) at 202-586-0503.

SUPPLEMENTARY INFORMATION: The construction, operation, maintenance, and connection of facilities at the international border of the United States for the transmission of electric energy between the United States and a foreign country is prohibited in the absence of a Presidential permit issued pursuant to Executive Order (EO) 10485, as amended by EO 12038.

On November 4, 2015, VELCO filed an application with DOE requesting DOE amend PP-82-3 by removing the last sentence of Article 3's preamble and paragraphs a through d of that article which establish operating conditions and limitations that are no longer necessary for two reasons. First, VELCO asserts that it has made transmission reinforcements to the Highgate Transmission Interconnection (the “Highgate Facilities”) and other transmission facilities in northern Vermont since 1994. Second, ISO New England Inc. (“ISO-NE”), as the Regional Transmission Organization (RTO) for the six-state New England region, manages real-time operation of these facilities through its operating procedures.

The international transmission facilities authorized by Presidential Permit No. PP-82, as amended, include a back-to-back converter station in Highgate, VT and a 345 kilovolt (kV) transmission line extending approximately 7.5 miles from the converter station to the U.S.-Canada border in Franklin, VT. VELCO does not propose to make any physical changes to the Highgate Facilities but rather asks the Department to amend the permit to reflect the transmission-network reinforcements made since 1994 and the role of ISO-NE., as the Regional Transmission Organization, in managing the real-time operation of the transmission system through its operating procedures. VELCO is also requesting several amendments to the Permit including changes to the ownership of the Highgate Facilities and a language change to Article 3 to better reflect the way energy is scheduled and flows over the Highgate Facilities.¹

¹ The amendment would replace the words “maximum instantaneous rate of transmission” with “scheduled rate of transmission.”

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: Mr. Christopher Root, Chief Operating Officer, Vermont Electric Power Company, Inc., 366 Pinnacle Ridge Road, Rutland, VT 05701, koneill@velco.com AND John H. Marshall, Esq., Downs Rachlin Martin PLLC, 90 Prospect Street, P. O. Box 99, St. Johnsbury, VT 05819-0099, jmarshall@drm.com.

Before a Presidential permit may be granted or amended, DOE must determine that the proposed action will not adversely impact on the reliability of the U.S. electric power supply system. In addition, DOE must consider the environmental impacts of the proposed action (i.e., granting the Presidential permit or amendment, with any conditions and limitations, or denying the permit) pursuant to the National Environmental Policy Act of 1969. DOE also must obtain the concurrences of the Secretary of State and the Secretary of Defense before taking final action on a Presidential permit application.

Copies of this application will be made available, upon request, for public inspection and copying at the address provided above. In addition, the application may be reviewed or downloaded electronically at http://energy.gov/oe/services/electricity-policy-coordination-and-implementation/international-electricity-regulatio-2. Upon reaching the home page, select “Pending Applications.”

Issued in Washington, DC, on December 10, 2015.
Christopher A. Lawrence,
Electricity Policy Analyst, Office of Electricity Delivery and Energy Reliability.

[FR Doc. 2015-31622 Filed 12-15-15; 8:45 am]

BILLING CODE 6450-01-P